ENVIRONMENTAL PROTECTION AGENCY

[EPA-HQ-OPPT-2021-0847; FRL-9972-04-OCSPP]

40 CFR Part 721

Significant New Use Rules on Certain Chemical Substances (22-1.5e); Extension of Comment Period

AGENCY: Environmental Protection Agency (EPA).

ACTION: Proposed rule; extension of comment period.

SUMMARY: EPA issued a document in the Federal Register of December 2, 2022, proposing significant new use rules (SNURs) under the Toxic Substances Control Act (TSCA) for chemical substances that were the subject of premanufacture notices (PMNs) and are also subject to Orders issued by EPA pursuant to TSCA. This document extends the comment period for 14 days, from January 3, 2023 to January 17, 2023, in response to stakeholder requests for more time to determine if and to what extent they may be affected by the proposed SNURs.

DATES: The comment period for the proposed rulemaking that published on December 2, 2022, at 87 FR 74072, is extended. Comments must be received on or before January 17, 2023.

ADDRESSES: Submit your comments, identified by docket identification (ID) number EPA-HQ-OPPT-2021-0847, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information contact: William Wysong, New Chemicals Division (7405M), Office of Pollution Prevention and Toxics, Environmental Protection Agency, 1200 Pennsylvania Ave. NW, Washington, DC 20460-0001; telephone number: (202) 564-4163; email address: wysong.william@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the proposed rule that published in the Federal Register of December 2, 2022 (87 FR 74072; FRL-9972-01-OCSPP), and the correction that published in the Federal Register of December 15, 2022 (87 FR 76957; FRL-9972-03-OCSPP), in which EPA proposed SNURs under TSCA for chemical substances that were the subject of PMNs and are also subject to Orders issued by EPA pursuant to TSCA. EPA is hereby extending the comment period, which was set to end on January 3, 2023, to January 17, 2023.

List of Subjects in 40 CFR Part 721

Environmental protection, Chemicals, Hazardous substances, Reporting and recordkeeping requirements.

Dated: December 21, 2022.
Tala Henry,
Deputy Director, Office of Pollution Prevention and Toxics.

[FR Doc. 2022-28468 Filed 12-30-22; 8:45 am]

BILLING CODE 6560-50-P